DEPARTMENT OF THE INTERIOR

National Park Service

[NPS-WASO-NAGPRA-NPS0037407; PPWOCRADN0-PCU00RP14.R50000]

Notice of Inventory Completion: Kansas State University, Manhattan, KS

AGENCY: National Park Service, Interior.

ACTION: Notice.

SUMMARY: In accordance with the Native American Graves Protection and Repatriation Act (NAGPRA), Kansas State University has completed an inventory of human remains and associated funerary objects and has determined that there is a cultural affiliation between the human remains and associated funerary objects and Indian Tribes or Native Hawaiian organizations in this notice.

DATES: Repatriation of the human remains and associated funerary objects in this notice may occur on or after March 25, 2024.

ADDRESSES: Megan Williamson, Department of Sociology, Anthropology, and Social Work, Kansas State University, 204 Waters Hall, 1603 Old Claflin Place, Manhattan, KS 66506-4003, telephone (785) 532-6005, email mwillia1@ksu.edu.

SUPPLEMENTARY INFORMATION: This notice is published as part of the National Park Service's administrative responsibilities under NAGPRA. The determinations in this notice are the sole responsibility of Kansas State University, and additional information on the determinations in this notice, including the results of consultation, can be found in the inventory or related records. The National Park Service is not responsible for the determinations in this notice.

Abstract of Information Available

Based on the information available, human remains representing, at least, one individual has been reasonably identified. The 2,292 associated funerary objects are debitage (approximately 2,131 fragments), unmodified stone (66), chipped stone debris (24), chipped stone tools (14), projectile points (seven), hematite (one), faunal (17), shell (one), beads (two), red ochre (two), charcoal (16), daub (10) and a bullet.

The human remains and associated funerary objects listed above were removed from Geary County, KS, at a site known as Witt Mound 1 (14GE608). Dr. Patricia J. O'Brien and students excavated as part of an archaeological field school during the summer of 1974. Since then, the items have been under the stewardship of Kansas State University.

Cultural Affiliation

Based on the information available and the results of consultation, cultural affiliation is reasonably identified by geographic location or acquisition history.

Determinations

Kansas State University has determined that:

• The human remains described in this notice represent the physical remains of one individual of Native American ancestry.

• The 2,292 objects described in this notice are reasonably believed to have been placed intentionally with or near individual human remains at the time of death or later as part of the death rite or ceremony.

• There is a reasonable connection between the human remains and associated funerary objects described in this notice and the Kaw Nation, Oklahoma; Pawnee Nation of Oklahoma; The Osage Nation; Three Affiliated Tribes of the Fort Berthold Reservation, North Dakota; and the Wichita and Affiliated Tribes (Wichita, Keechi, Waco, & Tawakonie), Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after March 25, 2024. If competing requests for repatriation are received, Kansas State University must determine the most appropriate requestor prior to repatriation. Requests for joint repatriation of the human remains and associated funerary objects are considered a single request and not competing requests. Kansas State University is responsible for sending a copy of this notice to the Indian Tribes and Native Hawaiian organizations identified in this notice.

Authority: Native American Graves Protection and Repatriation Act, 25 U.S.C. 3003, and the implementing regulations, 43 CFR 10.10.

Dated: February 9, 2024.
Melanie O'Brien,
Manager, National NAGPRA Program.

[FR Doc. 2024-03574 Filed 2-21-24; 8:45 am]

BILLING CODE 4312-52-P